DEPARTMENT OF TRANSPORTATION

Federal Aviation Administration

[Docket No. 30086]

Report to Congress on Effects of Nonmilitary Helicopter Noise on Individuals in Densely Populated Areas in the Continental United States

AGENCY: Federal Aviation Administration, DOT.

ACTION: Notice, request for comments.

SUMMARY: This notice requests comments and information to help fulfill a requirement for the Federal Aviation Administration (FAA) to conduct a study in identifying recommendations for reduction of the effects of nonmilitary helicopter noise that otherwise impacts individuals of densely populated areas in the continental United States. This notice solicits information and comment on specific issues; the FAA will consider all responses in preparing its report to Congress on effects of nonmilitary helicopter noise on individuals in densely populated areas.

DATES: Comments must be received on or before July 24, 2000.

ADDRESSES: Comments on this notice should be mailed, in triplicate to the Federal Aviation Administration, Office of Chief Counsel, Attn: Rules Docket, Docket No. 30086, 800 Independence Avenue, SW., Room 915H, Washington, DC 20591. Comments may be inspected in Room 915G between 8:30 a.m. and 5:00 p.m., weekpdays, except Federal holidays.

FOR FURTHER INFORMATION CONTACT: Mr. Sandy R. Liu, Noise Division (AEE-100), Office of Environment and Energy, Federal Aviation Administration, 800 Independence Ave, SW., Washington, DC 20591; telephone (202) 493-4864; fax (202) 267-5594.

SUPPLEMENTARY INFORMATION:

Background

Section 747 of the Federal Aviation Administration Authorization Act of 2000 requires the FAA to conduct a noise study on the effects of nonmilitary helicopter noise on individuals in densely populated areas in the continental United States and report associated noise reduction recommendations to Congress. This study shall focus on air traffic control procedures to address the helicopter noise problems and take into account the needs of law enforcement. The major goal of the study is to identify the type of helicopter operations (either law enforcement, electronic news gathering (ENG), sightseeing tour, emergency medical services (EMS), or corporate executive commute) that elicit negative response by individuals for typical densely populated areas and understand whether air traffic control procedures are applicable to addressing helicopter noise reduction in ways which are not unduly restrictive on operations.

The FAA has developed a plan for conducting the required study and completing the report to Congress. The plan's primary elements include: (1) a nonmilitary helicopter operations assessment for a densely populated area (i.e., New York City), (2) a public call for information from people concerned with nonmiliary helicopter noise, (3) a call for input from the helicopter industry, (4) a publicly held focus workshop to review inputs and findings with interest groups, and (5) helicopter noise impact analysis. Recommendations shall be prepared and provided in the report to Congress.

Participation of Federal agencies is encouraged through the Federal Interagency Committee on Aviation (FICAN).

Request for Information

In supplementing the study findings, the FAA is seeking comment and information regarding the following four questions. A discussion of each will be incorporated into the FAA report to Congress. Additional comments regarding any of the issues raised by Congress under Section 747 of the Authorization Act are also invited. The FAA will review and consider all responses in preparing its report to Congress.

1. What are the types of helicopter operations (law enforcement, electronic news gathering, sightseeing tours, etc.) that elicit the negative response by individuals in densely populated areas?

2. What air traffic control procedures are applicable in addressing helicopter noise reduction? Why?

3. What impacts could restrictive air traffic control procedures have on operations of:

Law enforcement helicopters?

Electronic news gathering (ENG) helicopters?

Sightseeing tour helicopters?

Emergency medical services (EMS) helicopters?

Corporate executive helicopters?

4. What are the recommended solutions for reduction of the effects of nonmilitary helicopter noise?

The FAA encourages public participation in this initiative. The data received will be considered in preparing the report to Congress. Comments responding to these questions should be mailed to the office designated in the ADDRESSES heading and include the docket number. Commenters who wish the FAA to acknowledge the receipt of their comments must submit with their comments a pre-addressed, stamped postcard on which the following statement is made: “Comments to Docket No. 30086.” The postcard will be date-stamped by the FAA and returned to the commenter.

Issued in Washington DC on June 16, 2000.
James D. Erickson,
Director of Environment and Energy.

[FR Doc. 00-15951 Filed 6-22-00; 8:45 am]

BILLING CODE 4910-13-M